ENVIRONMENTAL PROTECTION AGENCY

40 CFR Part 52

[EPA-R10-OAR-2013-0628: FRL-9907-38-Region 10]

Approval and Promulgation of Implementation Plans; Washington: State Implementation Plan Miscellaneous Revisions

AGENCY: Environmental Protection Agency (EPA).

ACTION: Final rule.

SUMMARY: The Environmental Protection Agency (EPA) is approving changes to the Washington State Implementation Plan (SIP) submitted by the Washington Department of Ecology (Ecology) dated November 20, 2013. This SIP revision updates ambient air quality standards for carbon monoxide, lead, nitrogen dioxide, ozone, particulate matter, and sulfur dioxide.

DATES: This final rule is effective on April 3, 2014.

ADDRESSES: The EPA has established a docket for this action under Docket Identification No. EPA-R10-OAR-2013-0628. All documents in the docket are listed on the http://www.regulations.gov Web site. Although listed in the index, some information may not be publicly available, i.e., Confidential Business Information or other information the disclosure of which is restricted by statute. Certain other material, such as copyrighted material, is not placed on the Internet and will be publicly available only in hard copy form. Publicly available docket materials are available either electronically through http://www.regulations.gov or in hard copy at EPA Region 10, Office of Air, Waste, and Toxics, AWT-107, 1200 Sixth Avenue, Seattle, Washington 98101. The EPA requests that you contact the person listed in the FOR FURTHER INFORMATION CONTACT section to schedule your inspection. The Regional Office's official hours of business are Monday through Friday, 8:30 a.m. to 4:30 p.m., excluding Federal holidays.

FOR FURTHER INFORMATION CONTACT: Jeff Hunt at (206) 553-0256, hunt.jeff@epa.gov, or the above EPA, Region 10 address.

SUPPLEMENTARY INFORMATION: Throughout this document, wherever “we,” “us,” or “our” are used, it is intended to refer to the EPA.

Table of Contents

I. Background

II. Final Action

III. Statutory and Executive Order Reviews

I. Background

An explanation of the Clean Air Act requirements and implementing regulations that are met by this State Implementation Plan (SIP) submittal, a detailed explanation of the revision, and the EPA's reasons for approving it were provided in the notice of proposed rulemaking published on December 31, 2013, and will not be restated here (78 FR 79652). The public comment period for this proposed rule ended on January 30, 2014. The EPA did not receive any comments on the proposal.

II. Final Action

The EPA is approving Chapter 173-476 WAC Ambient Air Quality Standards into the State of Washington's SIP. These changes are consistent with, or more stringent than, the EPA's standards for carbon monoxide, lead, nitrogen dioxide, ozone, particulate matter, and sulfur dioxide. Additionally, Ecology repealed Chapter 173-470 WAC that contained outdated standards for particulate matter, previously approved into the SIP on January 15, 1993 (58 FR 4578). As described in the proposed rulemaking for this action, the EPA has made a final determination to remove Chapter 173-470 from the SIP because all current particulate matter standards are now consolidated in the newly created Chapter 173-476 WAC.

III. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501, et seq.);

• Is certified as not having a significant economic impact on a substantial number of small entities under the Regulatory Flexibility Act (5 U.S.C. 601, et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide the EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because it will not impose substantial direct costs on tribal governments or preempt tribal law. The SIP is not approved to apply in Indian country located in the state, except for non-trust land within the exterior boundaries of the Puyallup Indian Reservation, also known as the 1873 Survey Area. Under the Puyallup Tribe of Indians Settlement Act of 1989, 25 U.S.C. 1773, Congress explicitly provided state and local agencies in Washington authority over activities on non-trust lands within the 1873 Survey Area and the EPA is therefore approving this SIP on such lands. Consistent with EPA policy, the EPA nonetheless provided a consultation opportunity to the Puyallup Tribe in a letter dated September 3, 2013. The EPA did not receive a request for consultation.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by May 5, 2014. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Incorporation by reference, Intergovernmental relations, Carbon monoxide, Lead, Nitrogen dioxide, Ozone, Particulate matter, Sulfur dioxide, Reporting and recordkeeping requirements.

Dated: February 10, 2014.
Dennis J. McLerran
Regional Administrator, Region 10.

40 CFR part 52 is amended as follows:

PART 52—APPROVAL AND PROMULGATION OF IMPLEMENTATION PLANS

1. The authority citation for Part 52 continues to read as follows:

Authority: 42 U.S.C. 7401 et seq.

Subpart WW—Washington

2. Section 52.2470 is amended in paragraph (c) “Table 1—Washington Department of Ecology Regulations” by:

a. Removing the heading “Washington Administrative Code, Chapter 173-470—Ambient Air Quality Standards for Particulate Matter” and adding in its place “Washington Administrative Code, Chapter 173-476—Ambient Air Quality Standards”;

b. Removing entries 173-470-010 through 173-470-160; and

c. Adding in numerical order entries 173-476-010 through 173-476-900 under the new heading “Washington Administrative Code, Chapter 173-476—Ambient Air Quality Standards”.

The added and revised text read as follows:

§ 52. 2470 Identification of plan.

* * * * *

(c) * * *

Table 1—Washington Department of Ecology Regulations
State citation | Title/subject | State effective date | EPA approval date | Explanations
* * * * * * *
Washington Administrative Code, Chapter 173-476—Ambient Air Quality Standards
173-476-010 | Purpose | 12/22/13 | 3/4/14 [Insert page number where the document begins] |
173-476-020 | Applicability | 12/22/13 | 3/4/14 [Insert page number where the document begins] |
173-476-030 | Definitions | 12/22/13 | 3/4/14 [Insert page number where the document begins] |
173-476-100 | Ambient Air Quality Standard for PM-10 | 12/22/13 | 3/4/14 [Insert page number where the document begins] |
173-476-110 | Ambient Air Quality Standards for PM-2.5 | 12/22/13 | 3/4/14 [Insert page number where the document begins] |
173-476-120 | Ambient Air Quality Standard for Lead (Pb) | 12/22/13 | 3/4/14 [Insert page number where the document begins] |
173-476-130 | Ambient Air Quality Standards for Sulfur Oxides (Sulfur Dioxide) | 12/22/13 | 3/4/14 [Insert page number where the document begins] |
173-476-140 | Ambient Air Quality Standards for Nitrogen Oxides (Nitrogen Dioxide) | 12/22/13 | 3/4/14 [Insert page number where the document begins] |
173-476-150 | Ambient Air Quality Standard for Ozone | 12/22/13 | 3/4/14 [Insert page number where the document begins] |
173-476-160 | Ambient Air Quality Standards for Carbon Monoxide | 12/22/13 | 3/4/14 [Insert page number where the document begins] |
173-476-170 | Monitor Siting Criteria | 12/22/13 | 3/4/14 [Insert page number where the document begins] |
173-476-180 | Reference Conditions | 12/22/13 | 3/4/14 [Insert page number where the document begins] |
173-476-900 | Table of Standards | 12/22/13 | 3/4/14 [Insert page number where the document begins] |
* * * * * * *

[FR Doc. 2014-04615 Filed 3-3-14; 8:45 am]

BILLING CODE 6560-50-P